COMMODITY FUTURES TRADING COMMISSION

Sunshine Act Meetings; Correction

AGENCY: Commodity Futures Trading Commission.

ACTION: Notice; correction.

SUMMARY: The Commodity Futures Trading Commission (Commission) is correcting a notice published in the Federal Register on October 18, 2024. The document noticing a closed meeting for consideration of enforcement matters contained an incorrect date.

FOR FURTHER INFORMATION CONTACT: Christopher Kirkpatrick, 202-418-5964.

SUPPLEMENTARY INFORMATION:

Correction

In the Federal Register of Friday, October 18, 2024, in FR Doc. 2024-24314, on page 83842 in the second column correct the TIME AND DATE caption to read:

TIME AND DATE: 9 a.m. EDT, Friday, October 25, 2024.

Dated: October 18, 2024.
Robert Sidman,
Deputy Secretary of the Commission.

[FR Doc. 2024-24541 Filed 10-18-24; 4:15 pm]

BILLING CODE 6351-01-P